DEPARTMENT OF ENERGY

Agency Information Collection Request

AGENCY: Office of Energy Efficiency and Renewable Energy, Department of Energy.

ACTION: Submission for Office of Management and Budget (OMB) review; comment request.

SUMMARY: The Department of Energy (DOE) has submitted the proposed collection of information described in this notice to the Office of Management and Budget (OMB) for review and approval in accordance with the Paperwork Reduction Act of 1995 (Pub. L. 104-13, 44 U.S.C. Chapter 35). The proposed collection of information is in a final rule pertaining to test procedures for distribution transformers, which DOE published at 71 FR 24971 (April 27, 2006). DOE received no comments in response to an earlier notice inviting public comment on this proposed collection (71 FR 24844, April 27, 2006).

DATES: Comments regarding this collection must be received on or before November 13, 2006. If you anticipate that you will be submitting comments, but find it difficult to do so within the period of time allowed by this notice, please advise the OMB Desk Officer of your intention to make a submission as soon as possible. The Desk Officer may be telephoned at 202-395-4650.

ADDRESSES: Comments should be sent to the Office of Management and Budget, Office of Information and Regulatory Affairs, Attention: OMB Desk Officer for DOE, Room 10202, New Executive Office Building, 725 17th Street, NW., Washington, DC 20503. A copy of the comments should also be sent to: Antonio Bouza, U.S. Department of Energy, Office of Energy Efficiency and Renewable Energy, EE-2J, 1000 Independence Ave., SW., Washington, DC 20585.

FOR FURTHER INFORMATION CONTACT: Requests for additional information or copies of the information collection instrument and instructions should be directed to Antonio Bouza at the address listed above in ADDRESSES.

SUPPLEMENTARY INFORMATION: The following proposed collection of information has been sent to OMB for clearance:

(1) OMB No.: Pending Approval. (2) Package Title: Test Procedures for Distribution Transformers. (3) Type of Review: New collection. (4) Purpose: This information collection is necessary for assessing the efficiency of DOE distribution transformers. (5) Respondents: 57. (6) Type of Respondents: Manufacturers of low-voltage dry-type distribution transformers. (7) Frequency of Response: Recordkeeping: Maintenance of (1) data and (2) calibration procedures and actions. (8) Estimated Number of Burden Hours: 5,472. Abstract: On April 27, 2006, DOE published a final rule that established test procedures for measuring the energy efficiency of distribution transformers (71 FR 24971). When energy conservation standards go into effect for low-voltage dry-type distribution transformers on January 1, 2007, the rule will become applicable to manufacturers of these transformers. The rule would require the manufacturers to meet the following recordkeeping requirements: (1) Have records as to alternative efficiency determination methods available for DOE inspection; (2) maintain calibration records; and (3) document calibration procedures. A Paperwork Reduction Act Submission has been submitted to OMB for clearance, and DOE invites the public to submit comments to OMB on these requirements. OMB is particularly interested in receiving public comments which evaluate: (1) Whether the proposed collection of information is necessary, (2) the accuracy of DOE's estimate of the burden of the proposed information collection, (3) ways to enhance the quality, utility, and clarity of the information to be collected, and (4) ways to minimize the burden of the collection of information on those who choose to respond.

Statutory Authority: Department of Energy Organization Act, Public Law 95-91.

Issued in Washington, DC, on October 6, 2006.
Sharon A. Evelin,
Director, Records Management Division, Office of the Chief Information Officer.

[FR Doc. E6-16999 Filed 10-12-06; 8:45 am]

BILLING CODE 6450-01-P